DEPARTMENT OF STATE

[Public Notice 8014]

Shipping Coordinating Committee; Notice of Committee Meeting

The Shipping Coordinating Committee (SHC) will conduct an open meeting for the International Maritime Organization's Marine Environment Protection Committee (MEPC).

The meeting will be held at 9:30 a.m. on Friday, September 21, 2012, in Room 2501 of the United States Coast Guard Headquarters Building, 2100 Second Street SW., Washington, DC 20593. The primary purpose of the meeting is to prepare for the sixty-fourth session of the International Maritime Organization's Marine Environment Protection Committee (MEPC 64) to be held at the International Maritime Organization in London, United Kingdom from October 1st to 5th, 2012.

The primary matters to be considered include:

—Harmful aquatic organisms in ballast water;

—Recycling of ships;

—Air pollution and energy efficiency;

—Reduction of GHG emissions from ships;

—Consideration and adoption of amendments to mandatory instruments;

—Interpretation of, and amendments to, MARPOL and related instruments;

—Implementation of the OPRC Convention and the OPRC-HNS Protocol and relevant Conference resolutions;

—Identification and protection of Special Areas and Particularly Sensitive Sea Areas;

—Inadequacy of reception facilities;

—Reports of sub-committees;

—Work of other bodies;

—Status of conventions;

—Harmful anti-fouling systems for ships;

—Promotion of implementation and enforcement of MARPOL and related instruments;

—Technical co-operation activities for the protection of the marine environment;

—Role of the human element;

—Noise from commercial shipping and its adverse impacts on marine life;

—Work program of the Committee and subsidiary bodies;

—Application of the Committees' Guidelines;

—Election of the Chairman and Vice-Chairman for 2013;

Members of the public may attend this meeting up to the seating capacity of the room. To facilitate the building security process and to request reasonable accommodation, those who plan to attend should contact the meeting coordinator, Ms. Regina Bergner not later than September 11, 2012, 10 days prior to the meeting. Contact should be made by email at Regina.R.Bergner@uscg.mil; by phone at (202) 372-1431; or in writing to Ms. Regina Bergner, Commandant (CG-OES-3), U.S. Coast Guard Headquarters, 2100 2nd Street SW., STOP 7126, Washington, DC 20593-7126. Requests made after September 11, 2012 might not be able to be accommodated. Please note that due to security considerations, two valid government-issued photo identifications must be presented to gain entrance to the Headquarters building. The Headquarters building is accessible by taxi and privately owned conveyance (public transportation is not generally available). Public parking is available in the vicinity of the Headquarters building. Additional information regarding this and other IMO SHC public meetings may be found at: www.uscg.mil/imo. Hard copies of documents associated with the 64th Session of MEPC will be available at this meeting. To request further copies of documents please contact Ms. Regina Bergner using the contact information above.

Dated: August 29, 2012.
Brian W. Robinson,
Executive Secretary, Shipping Coordinating Committee.

[FR Doc. 2012-21881 Filed 9-4-12; 8:45 am]

BILLING CODE 4710-09-P